FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the New Hire Information Collection (FR 27; OMB No. 7100-0375).

DATES: Comments must be submitted on or before July 26, 2021.

ADDRESSES: You may submit comments, identified by FR 27, by any of the following methods:

• Agency Website: https://www.federalreserve.gov/. Follow the instructions for submitting comments at https://www.federalreserve.gov/apps/foia/proposedregs.aspx.

• Email: regs.comments@federalreserve.gov. Include the OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

A copy of the Paperwork Reduction Act (PRA) OMB submission, including the reporting form and instructions, supporting statement, and other documentation will be available at https://www.reginfo.gov/public/do/PRAMain, if approved. These documents will also be made available on the Board's public website at https://www.federalreserve.gov/apps/reportforms/review.aspx or may be requested from the agency clearance officer, whose name appears above.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Report title: New Hire Information Collection.

Agency form number: FR 27.

OMB control number: 7100-0375.

Frequency: As needed.

Respondents: The FR 27 panel comprises individuals who are new hires to the Board, but have not yet become employees.

Estimated number of respondents: Regular hire: 312; intern hire: 122; federal transfer: 10.

Estimated average hours per response: Regular hire: 1; intern hire: 0.75; federal transfer: 1.08.

Estimated annual burden hours: Regular hire: 312; intern hire: 92; federal transfer: 11.

General description of report: This information collection provides for the electronic collection of certain personnel information from new hires using a secure web-based portal, the “New Hire Portal,” before the first day of employment of a new hire. As part of the onboarding process for new hires, a Human Resources professional at the Board identifies the necessary information that must be collected from the new hire, which is dependent upon whether the person will be starting as a full- or part-time employee, including a Governor or Board officer (Regular Hire) or starting as an intern (Intern Hire), or whether the Regular Employee is transferring from another federal agency (Federal Transfer). The new hire is then sent an email asking him or her to provide the information described below through the New Hire Portal prior to their official start date.

The New Hire Portal is broken out into different sections and each section corresponds to the hardcopy forms that new employees previously filled out and provide to the Board during or after the first day of new employee orientation (NEO). Thus, the information collection involves a new hire electronically providing this personnel information and filling out the applicable sections of the New Hire Portal before their first day of orientation. The sections of the portal that each new hire is asked to complete electronically depends upon the type of position that the new hire has been offered at the Board.

Proposed revisions: The Board proposes to remove the Direct Deposit section from the New Hire Portal and ask the respondent to provide that information after their NEO. After NEO, the respondent will be an employee of the Board, and the information requested will no longer be subject to the PRA.

Legal authorization and confidentiality: The New Hire Information Collection is authorized pursuant to sections 10(3), 10(4), 11(l), and 11(q) of the Federal Reserve Act, which provide the Board broad authority over employment of staff and security of its building.¹ In addition, Executive Order 9397 (Nov. 22, 1943) authorizes Federal agencies to use an individual's social security number to identify individuals in agency records.

¹ 12 U.S.C. 243, 244, 248(l), and 248(q).

Providing information collected as part of the New Hire Information Collection is voluntary. However, if certain information requested as part of the New Hire Information Collection is not provided by the new hire, the hiring process cannot be completed.²

² The voluntary provision of the following information is optional and is not required to complete the hiring process: education information (e.g., name of educational institution, major, degree, year of graduation), race, ethnicity, and the identity of and relationship to any relatives who are also employed at the Board. Although a new hire is required to provide the name and contact information of one “primary” emergency contact, providing a “second” emergency contact is optional and is not required to complete the hiring process. A new hire can also voluntarily provide an alternative mailing address, if it is different from his or her current address. Lastly, although not required to complete the hiring process, information on dependents is required to obtain certain benefits (such as continuing health insurance benefits for the child or spouse of a new employee who is transferring from another federal agency).

Generally, information collected as part of the New Hire Information Collection may be kept confidential from the public under exemption 6 of the Freedom of Information Act (FOIA), which protects information that “would constitute a clearly unwarranted invasion of personal privacy.” ³ However, the release of information such as the educational history of the new hire or the start date of employment would not likely constitute a clearly unwarranted invasion of personal privacy and may be disclosed under the FOIA.

³ 5 U.S.C. 552(b)(6).

Determinations regarding disclosure to third parties of any confidential portions of the information collection that are considered exempt under the FOIA will be made in accordance with the Privacy Act.⁴ Relevant Privacy Act statements are provided when a respondent logs in to the portal and before the respondent is asked to provide any information. The Board may make disclosures in accordance with the Privacy Act's routine use disclosure provision, which permits the disclosure of a record for a purpose which is compatible with the purpose for which the record was collected.⁵

⁴ 5 U.S.C. 552a(b).

⁵ 5 U.S.C. 552a(a)(7) and (b)(3)).

Such routine uses are listed in specific systems of records notices, which apply to this information collection and which can be found in: (1) The System of Records Notice for BGFRS-1, FRB-Recruiting and Placement Records, located at: https://www.federalreserve.gov/files/BGFRS-1-recruiting-and-placement-records.pdf; (2) the System of Records Notice for BGFRS-4, FRB-General Personnel Records, located at: https://www.federalreserve.gov/files/BGFRS-4-general-personnel-records.pdf; (3) the System of Records Notice for BGFRS-7, FRB—Payroll and Leave Records, located at: https://www.federalreserve.gov/files/BGFRS-7-payroll-and-leave-records.pdf; (4) the System of Records Notice for BGFRS-24, FRB—EEO General Files, located at: https://www.federalreserve.gov/files/BGFRS-24-eeo-general-files.pdf; and/or (5) the System of Records Notice for BGFRS-34, FRB-ESS Staff Identification Card File, located at: https://www.federalreserve.gov/files/BGFRS-34-ess-staff-identification-card-file.pdf.

Board of Governors of the Federal Reserve System, May 20, 2021.
Michele Taylor Fennell,
Deputy Associate Secretary of the Board.

[FR Doc. 2021-11059 Filed 5-24-21; 8:45 am]

BILLING CODE 6210-01-P